DEPARTMENT OF DEFENSE

Office of the Secretary

Privacy Act of 1974; Systems of Records

AGENCY: Defense Logistics Agency, DoD.

ACTION: Notice to delete a system of records.

SUMMARY: The Defense Logistics Agency is deleting a system of records notice in its existing inventory of record systems subject to the Privacy Act of 1974 (5 U.S.C. 552a), as amended.

DATES: This action will be effective without further notice on May 2, 2008 unless comments are received that would result in a contrary determination.

ADDRESSES: Send comments to the Privacy Act Officer, Headquarters, Defense Logistics Agency, ATTN: DP, 8725 John J. Kingman Road, Stop 2533, Fort Belvoir, VA 22060-6221.

FOR FURTHER INFORMATION CONTACT: Ms. Jody Sinkler at (703) 767-5045.

SUPPLEMENTARY INFORMATION: The Defense Logistics Agency notices for systems of records subject to the Privacy Act of 1974 (5 U.S.C. 552a), as amended, have been published in the Federal Register and are available from the address above.

The specific changes to the record system being amended are set forth below followed by the notice, as amended, published in its entirety. The proposed amendment is not within the purview of subsection (r) of the Privacy Act of 1974 (5 U.S.C. 552a), as amended, which requires the submission of a new or altered system report.

Dated: March 27, 2008.
L.M. Bynum,
Alternate OSD Federal Register Liaison Officer, Department of Defense.

S100.10 GC

System name:

Whistleblower Complaint and Investigation Files (November 16, 2004, 69 FR 67112).

Reason:

The Governmentwide notice, OSC/GOVT-1, OSC Complaint, Litigation and Political Activity Files (November 19, 1999, 64 FR 63359), covers all whistleblower complaint and investigation files, therefore Defense Logistics Agency (DLA) is deleting this notice from its Privacy Act system of records inventory.

[FR Doc. E8-6824 Filed 4-1-08; 8:45 am]

BILLING CODE 5001-06-P